ENVIRONMENTAL PROTECTION AGENCY

[EPA-HQ-OPPT-2017-0692; FRL-10561-01-OCSPP]

Agency Information Collection Activities; Proposed Renewal and Request for Comment; Lead Training, Certification, Accreditation and Authorization Activities

AGENCY: Environmental Protection Agency (EPA).

ACTION: Notice.

SUMMARY: In compliance with the Paperwork Reduction Act (PRA), this document announces the availability of and solicits public comment on the following Information Collection Request (ICR) that EPA is planning to submit to the Office of Management and Budget (OMB): “Lead Training, Certification, Accreditation and Authorization Activities,” identified by EPA ICR No. 2507.05 and OMB Control No. 2070-0195. This ICR represents the renewal of a currently approved ICR that is currently scheduled to expire on February 29, 2024. Before submitting the ICR to OMB for review and approval under the PRA, EPA is soliciting comments on specific aspects of the information collection that is summarized in this document. The ICR and accompanying material are available in the docket for public review and comment.

DATES: Comments must be received on or before June 26, 2023.

ADDRESSES: Submit your comments, identified by docket identification (ID) number EPA-HQ-OPPT-2017-0692, through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Katherine Sleasman, Mission Support Division (7101M), Office of Program Support, Office of Chemical Safety and Pollution Prevention, Environmental Protection Agency, 1200 Pennsylvania Ave. NW, Washington, DC 20460-0001; telephone number: (202) 566-1204; email address: sleasman.katherine@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What is the information collection activity?

Title: Lead Training, Certification, Accreditation and Authorization Activities.

EPA ICR No.: 2507.05.

OMB Control No.: 2070-0195.

ICR status: This ICR is currently approved through February 29, 2024. Under the PRA, an agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument, electronic reporting system or form, if applicable. The display of OMB control numbers for certain EPA regulations is consolidated in 40 CFR part 9.

Abstract: This ICR covers the information collection activities associated with the reporting and recordkeeping requirements for individuals, firms and state and local government entities conducting lead-based paint (LBP) activities or renovations of target housing and child-occupied facilities (COFs); training providers; and states/territories/tribes/Alaskan native villages that are promulgated in 40 CFR part 745.

Burden statement: The annual public reporting and recordkeeping burden for this collection of information is estimated to range between .2 and 28.5 hours per response. Burden is defined in 5 CFR 1320.3(b).

The ICR, which is available in the docket along with other related materials, provides a detailed explanation of the collection activities and the burden estimate that is only briefly summarized here:

Respondents/affected entities: Entities potentially affected by this ICR include persons who are engaged in LBP activities and/or perform renovations of target housing or COFs for compensation, dust sampling, or dust testing; or who perform LBP inspections, lead hazard screens, risk assessments or abatements in target housing or COFs; or who provide training or operate a training program for individuals who perform any of these activities; or state, territorial or Native American agencies that administer LBP activities and/or renovation programs.

Respondent's obligation to respond: Mandatory under TSCA and 40 CFR part 745.

Frequency of response: Occasional.

Total estimated number of potential respondents: 441,034.

Total estimated average number of responses for each respondent: 61.9.

Total estimated annual burden: 6,290,360 hours.

Total estimated annual costs: $362,279,573. This includes an estimated burden cost of $360,166,618 and an estimated cost of $17,400,556 for capital investment or maintenance and operational costs.

III. What are the changes in the estimates from the last approval?

There is an increase of 1,039,040 hours in the total estimated respondent burden compared with that identified in the ICR currently approved by OMB. This increase reflects EPA's estimated increased number of respondents for several of the information collection categories addressed in the ICR. This change is an adjustment. Several adjustments to the estimates were made, including revisions to the estimated number of respondents based on the number of respondents reporting to EPA for the prior information collection and revisions based on other market factors. Changes in burden estimates reflect changes within the housing renovation market, as measured by EPA's Federal Lead-Based Paint Program (FLPP) database, which tracks LBP and Renovation, Repair, and Painting (RRP) program activity over time, as reported to the Agency. The information submitted under the LBP activities and RRP programs is managed through the use of the FLPP database. Pursuant to the provisions of the Privacy Act of 1974, EPA published a System of Record Notice for the database. The Agency uses the FLPP Database to manage and store information related to the application process for the accreditation of training providers and the certification of firms and individuals who perform abatement and renovation repair and painting activities.

In addition, OMB has requested that EPA move towards using the 18-question format for ICR Supporting Statements used by other federal agencies and departments and that is based on the submission instructions established by OMB in 1995, replacing the alternate format developed by EPA and OMB prior to 1995. The Agency does not expect this change in format to result in substantive changes to the information collection activities or related estimated burden and costs.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: April 20, 2023.
Michal Freedhoff,
Assistant Administrator, Office of Chemical Safety and Pollution Prevention.

[FR Doc. 2023-08793 Filed 4-25-23; 8:45 am]

BILLING CODE 6560-50-P